FEDERAL COMMUNICATIONS COMMISSION

47 CFR Part 64

[CG Docket Nos. 11-116 and 09-158; CC Docket No. 98-170; FCC 11-106; DA 11-1860]

Empowering Consumers to Prevent and Detect Billing for Unauthorized Charges (“Cramming”); Consumer Information and Disclosure; Truth-in-Billing and Billing Format

AGENCY: Federal Communications Commission.

ACTION: Proposed rule; extension of reply comment period.

SUMMARY: In this document, the Commission extends the deadline to for filing reply comments on the Commission's Notice of Proposed Rulemaking (NPRM) seeking comment on various proposals designed to assist consumers in detecting and preventing the placement of unauthorized charges on the their telephone bills, an unlawful and fraudulent practice commonly referred to as cramming. The extension will facilitate the development of a full record given the importance of the issues in this proceeding.

DATES: Reply comments are due on or before December 5, 2011.

ADDRESSES: You may submit reply comments, identified by CG Docket No. 11-116 by any of the following methods:

• Federal Communications Commission's Web site: Follow the instructions for submitting comments.

• People with Disabilities: Contact the FCC to request reasonable accommodations (accessible format documents, sign language interpreters, CART, etc.) by email: FCC504@fcc.gov or phone: (202) 418-0530 or TTY: (202) 418-0432.

For detailed instructions for submitting comments and additional information on the rulemaking process, see the SUPPLEMENTARY INFORMATION section of this document.

FOR FURTHER INFORMATION CONTACT: John B. Adams, FCC, Consumer and Governmental Affairs Bureau, Consumer Policy Division, at (202) 418-2854 (voice), or e-mail JohnB.Adams@fcc.gov.

SUPPLEMENTARY INFORMATION: This is a summary of the Commission's Order, document DA 11-1860, adopted on November 4, 2011, and released on November 4, 2011, in CG Docket Nos. 11-116 and 09-158, and CC Docket No. 98-170, which extends the reply comment filing deadline established in FCC 11-106, published at 76 FR 52625, August 23, 2011. The full text of document DA 11-1860 and copies of any subsequently filed documents in this matter will be available for public inspection and copying during regular business hours at the FCC Reference Information Center, Portals II, 445 12th Street SW., Room CY-A257, Washington, DC 20554. They may also be purchased from the Commission's duplicating contractor, Best Copy and Printing, Inc., Portals II, 445 12th Street SW., Room CY-B402, Washington, DC 20554, telephone: (202) 488-5300, fax: (202) 488-5563, or Internet: http://www.bcpiweb.com. The full text of document DA 11-1860 may also be downloaded at http://www.fcc.gov. To request materials in accessible formats for people with disabilities (Braille, large print, electronic files, audio format), send an e-mail to fcc504@fcc.gov or call the Consumer and Governmental Affairs Bureau at (202) 418-0530 (voice), (202) 418-0432 (TTY). Pursuant to §§ 1.415 and 1.419 of the Commission's rules, 47 CFR 1.415 and 1.419, interested parties may file reply comments on or before the dates indicated in the DATES section of this document. Comments may be filed using: (1) The Commission's Electronic Comment Filing System (ECFS); or (2) by filing paper copies. All filings should reference the docket number of this proceeding, CG Docket No. 11-116.

• Electronic Filers: Comments may be filed electronically using the Internet by accessing the ECFS: http://fjallfoss.fcc.gov/ecfs2/. Filers should follow the instructions provided on the website for submitting comments. In completing the transmittal screen, ECFS filers should include their full name, U.S. Postal Service mailing address, and CG Docket No. 11-116.

• Paper Filers: Parties who choose to file by paper must file an original and one copy of each filing. Filings can be sent by hand or messenger delivery, by commercial overnight courier, or by first class or overnight U.S. Postal Service mail. All filings must be addressed to the Commission's Secretary, Office of the Secretary, Federal Communications Commission.

• All hand-delivered or messenger-delivered paper filings for the Commission's Secretary must be delivered to FCC Headquarters at 445 12th Street SW., Room TW-A325, Washington, DC 20554. The filing hours are 8 a.m. to 7 p.m. All hand deliveries must be held together with rubber bands or fasteners. Any envelopes or boxes must be disposed of before entering the building.

• Commercial overnight mail (other than U.S. Postal Service Express Mail and Priority Mail) must be sent to 9300 East Hampton Drive, Capitol Heights, MD 20743.

Background

Document FCC 11-106 established a comment deadline of October 24, 2011 and a reply comment deadline of November 21, 2011. On October 27, 2011, the National Association of State Utility Consumer Advocates (NASUCA) requested that the reply comment deadline be extended by 30 days because of the volume of initial comments and the occurrence of NASUCA's annual conference during the reply comment period. The Commission grants NASUCA's request in part.

As stated in § 1.46(a) of the Commission's rules, 47 CFR 1.46(a), the Commission's policy is that extensions of time are not routinely granted. In the interest of encouraging development of a full record, the Commission believes that an extension of time is in the public interest and that a 14-day extension will provide adequate time for development of reply comments. The Commission grants a 14-day extension of the reply comment deadline.

Ordering Clauses

Pursuant to sections 4(i) and 4(j) of the Communications Act of 1934, as amended, 47 U.S.C. 154(i), (j), and § § 0.141, 0.361, and 1.46 of the Commission's rules, 47 CFR 0.141, 0.361, 1.46, that the Motion for Extension of Time to File Reply Comments filed by the National Association of State Utility Consumer Advocates is granted to the extent indicated herein and is otherwise denied, and the deadline for filing reply comments in response to document FCC 11-106 is extended to December 5, 2011.

Federal Communications Commission.
William Freedman,
Deputy Chief, Consumer and Governmental Affairs Bureau.

[FR Doc. 2011-30783 Filed 11-29-11; 8:45 am]

BILLING CODE 6712-01-P